DEPARTMENT OF HOMELAND SECURITY

Federal Emergency Management Agency

Agency Information Collection Activities: Proposed Collection; Comment Request

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the U.S. Fire Administration's National Fire Academy Long-term Course Evaluation Forms.

SUPPLEMENTARY INFORMATION: The data collection from the long-term evaluation forms—one for students and one for the student's supervisor—will obtain course specific feedback regarding the impact of course content on job performance. This data is needed to improve instructional delivery and curriculum design. Demographic data are needed to identify differentials in course impact. The information collection also supports the Government Performance and Results Act and the Agency's Programming, Planning and Budgeting reporting requirements. In an effort to help minimize the burden of the collection of information on those who are to respond, the paper-based forms will be converted to an automated/electronic format that will allow for the electronic submission of responses. As such the respondent universe will increase due to the on-line availability of the forms and linkage to the current end-of-course evaluation form. By using an automated process, it is expected that the estimated cost associated with the processing of the forms will decrease.

Collection of Information

Title: National Fire Academy Long-term Evaluation Forms (Students and Supervisors).

Type of Information Collection: Extension of a currently approved collection.

OMB Number: 1660-0039.

Form Numbers: FF 95-58 and FF 95-59.

Abstract: The National Fire Academy's long-term evaluation forms—one for students and one for the student's supervisor—will obtain course specific feedback regarding impact of course content on job performance. The information is needed to improve instruction and content. Demographic data are needed to identify differentials in course impact.

Affected Public: Individuals participating in NFA resident training courses; State, local or tribal government.

Estimated Total Annual Burden Hours: 3,300.

FEMA forms | Number of respondents (A) | Frequency of response (B) | Hours per response (C) | Annual burden hours (A×B×C)
FF 95-58 (Student) | 5,000 | 1 | .33 | 1,650
FF 95-59 (Supervisor) | 5,000 | 1 | .17 | 1,650
Total | 10,000 | 1 | .50 | 3,300

Frequency of Response: Once at the conclusion of National Fire Academy resident training courses.

Estimated Cost: $75,000.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to: Chief, Records Management Section, Information Resources Management Branch, Information Technology Services Division, Federal Emergency Management Agency, Emergency Preparedness and Response Directorate, Department of Homeland Security, 500 C Street, SW., Room 316, Washington, DC 20472.

FOR FURTHER INFORMATION CONTACT: Ms. Terry Gladhill, Program Analyst, National Fire Academy, (301) 447-1239 for additional information. You may contact the Records Management Section at (202) 646-3347 or e-mail address: FEMA-Information-Collections@dhs.gov.

Dated: September 26, 2005.
Darcy Bingham,
Branch Chief, Information Resources Management Branch, Information Technology Services Division.

[FR Doc. 05-19579 Filed 9-29-05; 8:45 am]

BILLING CODE 9110-17-P